DEPARTMENT OF STATE

[Public Notice: 11184]

Notice of Determinations; Culturally Significant Object Being Imported for Exhibition—Determinations: Exhibition of One Bronze Statuette of Horse and Rider

SUMMARY: Notice is hereby given of the following determinations: I hereby determine that one object being imported from abroad pursuant to an agreement with the foreign owner or custodian for temporary display in an exhibition within the “Archaic and Classical Greek” Gallery at The J. Paul Getty Museum at the Getty Villa, Pacific Palisades, California, and at possible additional exhibitions or venues yet to be determined, is of cultural significance, and, further, that its temporary exhibition or display within the United States as aforementioned is in the national interest. I have ordered that Public Notice of these determinations be published in the Federal Register.

FOR FURTHER INFORMATION CONTACT: Chi D. Tran, Program Administrator, Office of the Legal Adviser, U.S. Department of State (telephone: 202-632-6471; email: section2459@state.gov). The mailing address is U.S. Department of State, L/PD, SA-5, Suite 5H03, Washington, DC 20522-0505.

SUPPLEMENTARY INFORMATION: The foregoing determinations were made pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000.

Marie Therese Porter Royce,
Assistant Secretary, Educational and Cultural Affairs, Department of State.

[FR Doc. 2020-18261 Filed 8-19-20; 8:45 am]

BILLING CODE 4710-05-P